PRIVACY AND CIVIL LIBERTIES OVERSIGHT BOARD

[Notice-PCLOB-2022-02; Docket No. 2022-0009; Sequence No. 2]

Notice of Public Forum

AGENCY: Privacy and Civil Liberties Oversight Board (PCLOB).

ACTION: Notice.

SUMMARY: The PCLOB, or Board, is issuing this notice to provide additional information relating to a notice published in the Federal Register on April 4, 2022, which announced a public forum regarding privacy and civil liberties issues concerning the government's efforts to counter domestic terrorism.

DATES: Applicable: May 19, 2022.

FOR FURTHER INFORMATION CONTACT: Alan Silverleib, Public and Legislative Affairs Officer at 202-997-7719; pao@pclob.gov.

SUPPLEMENTARY INFORMATION: The Board has been directed by Congress to submit a report assessing privacy and civil liberties impacts stemming from government efforts to counter significant threats to the United States associated with foreign racially motivated violent extremist organizations.

As part of its earlier request for public comments regarding its upcoming domestic terrorism forum (https://www.regulations.gov/document/GSA-GSA-2022-0009-0001), published in the Federal Register at 87 FR 19536, PCLOB also encourages comments relating to this congressional report requirement, which can be found in Section 824 at https://www.congress.gov/bill/117th-congress/house-bill/2471/text.

David Coscia,
Agency Liaison Officer, Office of Presidential & Congressional Agency Liaison Services, General Services Administration.

[FR Doc. 2022-10712 Filed 5-18-22; 8:45 am]

BILLING CODE 6820-B5-P